FEDERAL COMMUNICATIONS COMMISSION

47 CFR Part 73

[DA 04-3475, MM Docket No. 99-277, RM-9666]

Digital Television Broadcast Service; Corpus Christi, TX

AGENCY: Federal Communications Commission.

ACTION: Final rule.

SUMMARY: The Commission, by this document, denies the petitions for reconsideration filed by Channel 7 of Corpus Christi, Inc. and Minerva L. Lopez of the Report and Order, which substituted DTV channel 8 for DTV channel 47 at Corpus Christi, Texas. See 68 FR 68254, December 8, 2003. With this action, this proceeding is terminated.

FOR FURTHER INFORMATION CONTACT: Alan Aronowitz, Media Bureau, (202) 418-1600.

SUPPLEMENTARY INFORMATION: This is a synopsis of the Commission's Memorandum Opinion and Order, MM Docket No. 99-277, adopted October 28, 2004, and released November 5, 2004. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC, 20554, telephone 301-816-2820, facsimile 301-816-0169, or via e-mail joshir@erols.com.

This document does not contain [new or modified] information collection requirements subject to the Paperwork Reduction Act of 1995 (PRA), Pub. L. 104-13. In addition, therefore, it does not contain any new or modified “information collection burden for small business concerns with fewer than 25 employees,” pursuant to the Small Business Paperwork Relief Act of 2002, Pub. L. 107-198, see 44 U.S.C. 3506(c)(4).

The Commission will send a copy of this Memorandum Opinion & Order in a report to be sent to Congress and the General Accountability Office pursuant to the Congressional Review Act, see 5 U.S.C. 801(a)(1)(A) because there are no rules attached. This was a petition for reconsideration that was denied.

List of Subjects in 47 CFR Part 73

Digital television broadcasting, Television.

Federal Communications Commission.
Clay C. Pendarvis,
Associate Chief, Video Division, Media Bureau.

[FR Doc. 04-25218 Filed 11-10-04; 8:45 am]

BILLING CODE 6712-01-P